NUCLEAR REGULATORY COMMISSION

Notice of Meetings; Sunshine Act

Agency Holding the Meetings: Nuclear Regulatory Commission.

Dates: Weeks of October 23, 30, November 6, 13, 20, 27, 2006.

Place: Commissioners' Conference Room, 11555 Rockville Pike, Rockville, Maryland.

Status: Public and Closed.

Matters to be Considered:

Week of October 23, 2006

Tuesday, October 24, 2006

9:30 a.m.—Briefing on Transshipment and Domestic Shipment Security of Radioactive Material Quantities of Concern (RAMQC) (Closed—Ex. 3) (morning session).

1:30 p.m.—Briefing on Transshipment and Domestic Shipment Security of Radioactive Material Quantities of Concern (RAMQC) (Closed—Ex. 3 and 9) (afternoon session).

Wednesday, October 25, 2006

9:30 a.m.—Briefing on Institutionalization and Integration of Agency Lessons Learned (Public Meeting) (Contact: John Lamb, 301-415-1727).

This meeting will be webcast live at the Web address— http://www.nrc.gov.

1:25 p.m.—Affirmation Session (Public Meeting) (Tentative) a. Final Rule: National Source Tracking of Sealed Sources (RIN 3150-AH48) (tentative)

1:30 p.m.—Briefing on Resolution of GSI-191, Assessment of Debris Accumulation on PWR Sump Performance (Public Meeting) (Contact: Michael L. Scott, 301-415-0565)

This meeting will be webcast live at the Web address— http://www.nrc.gov.

Week of October 30, 2006—Tentative

There are no meetings scheduled for the Week of October 30, 2006.

Week of November 6, 2006—Tentative

Wednesday, November 8, 2006

9:30 a.m.—Briefing on Digital Instrumentation and Control (Public Meeting) (Contact: Paul Rebstock, 301-415-3295).

This meeting will be webcast live at the Web address— http://www.nrc.gov.

Thursday, November 9, 2006

9:30 a.m.—Briefing on Draft Final Rule—Part 52 (Early Site permits/Standard Design Certification/Combined Licenses) (Public Meeting) (Contact: Dave Matthews, 301-415-1199).

This meeting will be webcast live at the Web address— http://www.nrc.gov.

Week of November 13, 2006—Tentative

There are no meetings scheduled for the Week of November 13, 2006.

Week of November 20, 2006—Tentative

There are no meetings scheduled for the Week of November 20, 2006.

Week of November 27, 2006—Tentative

There are no meetings scheduled for the Week of November 27, 2006.

* * * * *

* The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notifiy the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 19, 2006.
R. Michelle Schroll,
Office of the Secretary.

[FR Doc. 06-8867 Filed 10-20-06; 10:52 am]

BILLING CODE 7590-01-M